CORPORATION FOR NATIONAL AND COMMUNITY SERVICE

Current Information Collection With Revisions; Comment Request

AGENCY: Corporation for National and Community Service.

ACTION: Notice.

SUMMARY: The Corporation for National and Community Service (hereinafter the “'Corporation”'), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning changes to an existing information collection activity, the RSVP Station Supervisor Survey (OMB Number 3045-0097), which is a component of the Performance Surveys for its three Senior Corps programs: the Foster Grandparent Program, the Senior Companion Program, and RSVP (Retired and Senior Volunteer Program).

Copies of the information collection request can be obtained by contacting the office listed below in the ADDRESSES section of this notice. This form is available in alternate formats. Individuals who use a telecommunications device for the deaf (TTY/TDD) may call (202) 606-5256 between the hours of 9 a.m. and 4:30 p.m. Eastern time, Monday through Friday.

DATES: Written comments must be submitted to the office listed in the ADDRESSES section by January 24, 2006.

ADDRESSES: You may submit comments, identified by the title of the information collection activity, by any of the following methods:

(1) By mail sent to: Corporation for National and Community Service, Attn. Nathan Dietz, Department of Research and Policy Development, Rm. 10907, 1201 New York Avenue, NW., Washington, DC 20525.

(2) By hand delivery or by courier to the Corporation's mailroom, Room 8100, at the mail address given in paragraph (1) above, between 9 a.m. and 4 p.m., Monday through Friday, except Federal holidays.

(3) By fax to: 202-606-3464, Attn: Nathan Dietz, Department of Research and Policy Development.

(4) Electronically through the Corporation's e-mail address system: ndietz@cns.gov.

FOR FURTHER INFORMATION CONTACT: Nathan Dietz, (202) 606-6633, or by e-mail at ndietz@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Propose ways to minimize the burden of the collection of information on those who are to respond, including through the use of appropriate automated, electronic, mechanical, or other technological collection techniques or other forms of information technology, (e.g., permitting electronic submissions of responses).

Background

The Station Supervisor Surveys were conducted in 2004 for all three Senior Corps programs (RSVP, Foster Grandparents, and Senior Companions) to measure outcomes related to the benefits of service for senior volunteers. The 2006 surveys will focus on volunteer management, organizational best practices, and the benefits to the organization of senior volunteers. The revised version of the Surveys will combine selected questions from the 2004 version of the Station Supervisor Surveys and the 2004 version of the Accomplishment Surveys (OMB control number 3045-0049), to eliminate the need to conduct the latter.

Current Action

The Corporation for National and Community Service (CNCS) is requesting comments on plans to revise the survey of Station Supervisors in RSVP (Retired and Senior Volunteer Program), one of the three main Senior Corps programs. This study is being conducted under contract with Westat, Inc. to collect information about local project volunteer outputs and outcomes. This information is to be used by CNCS in preparing its Annual Performance Reports and to help program managers to improve the quality of services provided and will aid CNCS in making grant decisions as well as for responding to ad hoc requests from Congress and other interested parties.

Type of Review: Current Information Collection with Revisions.

Agency: Corporation for National and Community Service.

Title: RSVP Station Supervisors Component of the Annual Performance Surveys of Senior Corps Programs.

OMB Number: 3045-0097.

Agency Number: None.

Affected Public: RSVP grantees and volunteer stations.

Type of Respondents: Supervisors of RSVP volunteer stations.

Total Respondents: 600.

Frequency: Annually.

Average Time per Response: 15 minutes.

Estimated Total Burden Hours: 150 hours total for all respondents.

Total Burden Cost (capital/startup): None.

Total Burden Cost (operating/maintenance): None.

Comments submitted in response to this notice will be summarized and/or included in the request for Office of Management and Budget approval of the information collection request; they will also become a matter of public record.

Dated: November 15, 2005.
Robert Grimm,
Director, Department of Research and Policy Development.

[FR Doc. 05-23247 Filed 11-23-05; 8:45 am]

BILLING CODE 6050-$$-U